DEPARTMENT OF JUSTICE

[OMB Number 1123-NEW]

Criminal Division; Asset Forfeiture and Money Laundering Section; Agency Information Collection Activities: Proposed Collection; Comments Requested

ACTION: 30-Day Notice of Information Collection Under Review: Annual Certification Report and Equitable Sharing Agreement.

The Department of Justice (DOJ), Criminal Division, Asset Forfeiture and Money Laundering Section (AFMLS) will be submitting the following information collection request to the Office of Management and Budget (OMB) for review and approval in accordance with the Paperwork Reduction Act of 1995. The proposed information collection is published to obtain comments from the public and affected agencies. This proposed information collection was previously published in the Federal Register Volume 72, Number 190, pages 56095-56096 on October 2, 2007, allowing for a 60-day comment period.

The purpose of this notice is to allow for an additional 30 days for public comment until December 6, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Authorization and combination of two currently unapproved collections.

(2) Title of the Form/Collection: Annual Certification Report and Equitable Sharing Agreement.

(3) Agency form number, if any, and the applicable component of the Department of Justice sponsoring the collection: Form Number: N/A. Criminal Division, Asset Forfeiture and Money Laundering Section.

(4) Affected public who will be asked or required to respond, as well as a brief abstract: Primary: Law Enforcement Agencies that participate in the Federal Equitable Sharing Program. Other: None. The form is part of a voluntary program in which law enforcement agencies receive forfeited assets and proceeds to further law enforcement operations. The participating law enforcement agencies must account for their use of program funds on an annual basis and renew their contract of participation. DOJ uses this information to ensure that the funds are spent in accordance with the requirements of the program.

(5) An estimate of the total number of respondents and the amount of time estimated for an average respondent to respond: It is estimated that 8,729 respondents will complete a 30 minute form.

(6) An estimate of the total public burden (in hours) associated with the collection:

(7) There are an estimated 43,652 annual total burden hours associated with this collection.

If additional information is required contact: Lynn Bryant, Department Clearance Officer, United States Department of Justice, Policy and Planning Staff, Justice Management Division, Suite 1600, Patrick Henry Building, 601 D Street, NW., Washington, DC 20530.

Dated: October 31, 2007.
Lynn Bryant,
Department Clearance Officer, PRA, United States Department of Justice.

[FR Doc. E7-21813 Filed 11-5-07; 8:45 am]

BILLING CODE 4410-14-P